DEPARTMENT OF THE INTERIOR

National Park Service

36 CFR Chapter 1

Negotiated Rulemaking Advisory Committee for Dog Management at Golden Gate National Recreation Area

ACTION: Notice of meeting cancellation.

Notice is hereby given, in accordance with the Federal Advisory Committee Act (Pub. L. 92-463, 86 Stat. 770, 5 U.S.C. App. 1, section 10), of cancellation of the Wednesday, November 8, 2006 meeting of the Negotiated Rulemaking Advisory Committee for Dog Management at Golden Gate National Recreation Area (GGNRA) beginning at 3 p.m. in the Conference Center at Fort Mason Center in San Francisco which was published in the Federal Register on Wednesday, October 11, 2006, 71 FR 59697.

The meeting is cancelled due to a change in schedule of the Negotiated Rulemaking Advisory Committee and will be rescheduled.

FOR FURTHER INFORMATION CONTACT: Go to the www.parkplanning.nps.gov.goga and select Negotiated Rulemaking for Dog Management at GGNRA or call the project information line at 415-561-4728.

Dated: October 31, 2006.
Bernard C. Fagan,
Acting Chief, Office of Policy.

[FR Doc. 06-9109 Filed 11-7-06; 8:45 am]

BILLING CODE 4312-FN-M